DEPARTMENT OF HEALTH AND HUMAN SERVICES

Centers for Disease Control and Prevention

National Center for Health Statistics (NCHS), Classifications and Public Health Data Standards Staff, Announces the Following Meeting

Name: ICD-9-CM Coordination and Maintenance (C&M) Committee meeting.

Time and Date: 9 a.m.-5 p.m., March 22-23, 2007.

Place: Centers for Medicare and Medicaid Services (CMS) Auditorium, 7500 Security Boulevard, Baltimore, Maryland.

Status: Open to the public.

Purpose: The C&M meeting is a public forum for the presentation of proposed modifications to the International Classification of Diseases, Ninth-Revision, Clinical Modification.

Matters to be Discussed: Tentative agenda items include:

Migraines and other headache syndromes

Transplant complications

Hormone therapy for breast cancer

Penicillin resistant infections

Central line infections

Fetal medicine

Plateau iris syndrome and pingueculitis

Secondary diabetes mellitus

Erythema multiforme

Malignant pleural effusion

Autoimmune hepatitis

Addenda (diagnosis)

Intraoperative electron radiation therapy

Intraoperative neurophysiologic monitoring

Thoracoscopic procedures

Procedures on vena cava

STARR procedure for males

Oversewing of the atrial appendage

Transjugular biopsy of liver

Total disc replacement

Recalled devices

Motion preserving technologies

Addenda (procedures)

ICD-10 procedure coding system (PCS update)

Contact Person for Additional Information: Amy Blum, Medical Systems Specialist, Classifications and Public Health Data Standards Staff, NCHS, 3311 Toledo Road, Room 2402, Hyattsville, Maryland 20782, e-mail alb8@cdc.gov, telephone 301-458-4106 (diagnosis), Mady Hue, Health Insurance Specialist, Division of Acute Care, CMS, 7500 Security Blvd., Baltimore, Maryland 21244, e-mail marilu.hue@cms.hhs.gov, telephone 410-786-4510 (procedures).

Notice: Because of increased security requirements, CMS has instituted stringent procedures for entrance into the building by non-government employees. Persons without a government I.D. will need to show an official form of picture I.D., (such as a drivers license), and sign-in at the security desk upon entering the building.

Those who wish to attend a specific ICD-9-CM C&M meeting in the CMS auditorium must submit their name and organization for addition to the meeting visitor list. Those wishing to attend the March 22-23, 2007 meeting must submit their name and organization by March 14, 2007 for inclusion on the visitor list. This visitor list will be maintained at the front desk of the CMS building and used by the guards to admit visitors to the meeting. Those who attended previous ICD-9-CM C&M meetings will no longer be automatically added to the visitor list. You must request inclusion of your name prior to each meeting you attend.

Register to attend the meeting online at: http://www.cms.hhs.gov/apps/events/.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: February 26, 2007.
Elaine L. Baker,
Acting Director, Management Analysis and Services Office, Centers for Disease Control and Prevention.

[FR Doc. E7-3660 Filed 3-1-07; 8:45 am]

BILLING CODE 4160-18-P